FEDERAL COMMUNICATIONS COMMISSION

47 CFR Part 73

[MB Docket No. 23-287; RM-11961; DA 23-750; FR ID 166960]

Television Broadcasting Services Idaho Falls, Idaho

AGENCY: Federal Communications Commission.

ACTION: Proposed rule.

SUMMARY: The Commission has before it a petition for rulemaking filed by NPG of Idaho, Inc. (Petitioner), the licensee of KIFI-TV, channel 8, Idaho Falls, Idaho. The Petitioner requests the substitution of channel 18 for channel 8 at Idaho Falls in the Table of Allotments.

DATES: Comments must be filed on or before October 5, 2023 and reply comments on or before October 20, 2023.

ADDRESSES: Federal Communications Commission, Office of the Secretary, 45 L Street NE, Washington, DC 20554. In addition to filing comments with the FCC, interested parties should serve counsel for the Petitioner as follows: Patrick Cross, Esq., Brooks, Pierce, McLendon, Humphrey & Leonard, L.L.P, Wells Fargo Capitol Center, Suite 1700, Raleigh, NC 27601.

FOR FURTHER INFORMATION CONTACT: Joyce Bernstein, Media Bureau, at (202) 418-1647; or Joyce Bernstein, Media Bureau, at Joyce.Bernstein@fcc.gov.

SUPPLEMENTARY INFORMATION: In support, the Petitioner states that its proposed channel substitution would serve the public interest by resolving reception issues currently experienced by a meaningful cross-section of viewers in KIFI-TV's service area, thereby expanding the availability of reliable, free over-the-air network television service within the market. According to the Petitioner, KIFI-TV has received numerous complaints about reception of its channel 8 facility since the end of the DTV transition in 2009, a common difficulty shared by other stations with VHF channel assignments in the Idaho Falls market. The Petitioner further states that the Commission has recognized that VHF channels pose challenges for their use in providing digital television service, including propagation characteristics of these channels that allow undesired signals and noise to be receivable at relatively farther distances and that nearby electrical devices tend to emit noise that can cause interference in this band and reception of VHF signal require physically larger antennas relative to UHF channel antennas. Moreover, when compared to the Station's current channel 8 facility, the proposed channel 18 facility will create a predicted service loss of only 327 persons using the Commission's TVStudy software tool, a number which the Petitioner asserts is de minimis. The Petitioner also points out that this loss prediction fails to account for the longtime and ongoing service challenges many KIFI-TV viewers experience due to channel 8's inferior propagation characteristics, which it expects will be remedied by switching to a UHF channel.

This is a synopsis of the Commission's Notice of Proposed Rulemaking, MB Docket No. 23-287; RM-11961; DA 23-750, adopted August 23, 2023, and released August 23, 2023. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY). This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Idaho, revise the entry for Idaho Falls to read as follows:

§ 73.622 Digital television table of allotments.

* * * * *

(j) * * *

Community | Channel No.
* * * * *
Idaho
* * * * *
Idaho Falls | 18, 20, 36.
* * * * *

[FR Doc. 2023-18955 Filed 9-1-23; 8:45 am]

BILLING CODE 6712-01-P